DEPARTMENT OF THE INTERIOR

National Park Service

[NPS-WASO-NAGPRA-NPS0033404; PPWOCRADN0-PCU00RP14.R50000]

Notice of Inventory Completion: University of California, Davis, Davis, CA

AGENCY: National Park Service, Interior.

ACTION: Notice.

SUMMARY: The University of California, Davis (UC Davis) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to UC Davis. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UC Davis at the address in this notice by March 25, 2022.

FOR FURTHER INFORMATION CONTACT: Megon Noble, NAGPRA Project Manager, University of California, Davis, 412 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the completion of an inventory of human remains and associated funerary objects under the control of the University of California, Davis, Davis, CA. The human remains and associated funerary objects were removed from Solano or Yolo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the UC Davis professional staff in consultation with representatives of the Yocha Dehe Wintun Nation, California [previously listed as Rumsey Indian Rancheria of Wintun Indians of California]. The following Indian Tribes were invited to consult in 1995, or later, but did not participate: Big Valley Band of Pomo Indians of the Big Valley Rancheria, California; Buena Vista Rancheria of Me-Wuk Indians of California; Cachil DeHe Band of Wintun Indians of the Colusa Indian Community of the Colusa Rancheria, California; Cahto Tribe of the Laytonville Rancheria; California Valley Miwok Tribe, California; Cher-Ae Heights Indian Community of the Trinidad Rancheria, California; Chicken Ranch Rancheria of Me-Wuk Indians of California; Cloverdale Rancheria of Pomo Indians of California; Coyote Valley Band of Pomo Indians of California; Dry Creek Rancheria Band of Pomo Indians, California [previously listed as Dry Creek Rancheria of Pomo Indians of California]; Elem Indian Colony of Pomo Indians of the Sulphur Bank Rancheria, California; Guidiville Rancheria of California; Habematolel Pomo of Upper Lake, California; Hopland Band of Pomo Indians, California [previously listed as Hopland Band of Pomo Indians of the Hopland Rancheria, California]; Jackson Band of Miwuk Indians [previously listed as Jackson Rancheria of Me-Wuk Indians of California]; Kashia Band of Pomo Indians of the Stewarts Point Rancheria, California; Kletsel Dehe Band of Wintun Indians [previously listed as Cortina Indian Rancheria]; Lytton Rancheria of California; Manchester Band of Pomo Indians of the Manchester Rancheria, California [previously listed as Manchester Band of Pomo Indians of the Manchester-Point Arena Rancheria, California]; Middletown Rancheria of Pomo Indians of California; Picayune Rancheria of Chukchansi Indians of California; Pinoleville Pomo Nation, California [previously listed as Pinoleville Rancheria of Pomo Indians of California]; Potter Valley Tribe, California; Redding Rancheria, California; Redwood Valley or Little River Band of Pomo Indians of the Redwood Valley Rancheria California [previously listed as Redwood Valley Rancheria of Pomo Indians of California]; Reno-Sparks Indian Colony, Nevada; Robinson Rancheria [previously listed as Robinson Rancheria Band of Pomo Indians, California]; Santa Rosa Indian Community of the Santa Rosa Rancheria, California; Scotts Valley Band of Pomo Indians of California; Sherwood Valley Rancheria of Pomo Indians of California; Shingle Springs Band of Miwok Indians, Shingle Springs Rancheria (Verona Tract), California; Susanville Indian Rancheria, California; Table Mountain Rancheria [previously listed as Table Mountain Rancheria of California]; Tule River Indian Tribe of the Tule River Reservation, California; Tuolumne Band of Me-Wuk Indians of the Tuolumne Rancheria of California; United Auburn Indian Community of the Auburn Rancheria of California; Washoe Tribe of Nevada & California (Carson Colony, Dresslerville Colony, Woodfords Community, Stewart Community, & Washoe Ranches); and the Wilton Rancheria, California.

Hereafter, all the Indian Tribes listed in this section are referred to as “The Consulted and Invited Tribes.”

History and Description of the Remains

In 1985, human remains representing, at minimum, one individual were removed from site CA-SOL-364 (UC Davis Accession 426) in Solano County, CA, by UC Davis Faculty member Robert Bettinger, Ph.D., and graduate student Michael Delacorte at the request of the County Coroner. The human remains were uncovered during the excavation of a trench for utility cables. The complete skeleton of at least one individual and the disturbed remains of possibly eight additional individuals were removed from the trench. All the human remains recovered from this site were transferred to the Native American Heritage Commission except for a single bone fragment. No known individual was identified. The 23 associated funerary objects are three pieces of groundstone, one biface, two cores, one core tool, eight pieces of debitage, one flake tool, five pieces of baked clay, and two fragments of freshwater mussel shell.

CA-SOL-364, located in the Suisun Valley, is situated within the southern North Coast Ranges. According to a post-1985 excavation, it was a single component, Early Middle Period (approximately 2,200 B.P. to 1,600 B.P.) habitation and burial site. That excavation revealed an additional 335 Native American burials. Based on historic and anthropological evidence, all human remains and associated funerary objects from this site are affiliated with Patwin cultural groups. The following present-day Indian Tribes are Patwin: The Cachil DeHe Band of Wintun Indians of the Colusa Indian Community of the Colusa Rancheria, California; Kletsel Dehe Band of Wintun Indians [previously listed as Cortina Indian Rancheria]; and the Yocha Dehe Wintun Nation, California [previously listed as Rumsey Indian Rancheria of Wintun Indians of California]. Hereafter, they are referred to as “The Affiliated Tribes.”

On an unknown date, human remains representing, at minimum, two individuals were removed from an unknown site along the Monticello Canal (UC Davis Accession 431) in either Solano or Yolo County, CA. The details of the exhumation are unknown. No known individuals were identified. The four associated funerary objects are unidentified lithics.

Monticello Canal lies in the heart of Patwin aboriginal occupation. Based on historic and anthropological evidence, the human remains and associated funerary objects are affiliated with Patwin cultural groups.

In the 1930s, human remains representing, at minimum, one individual were found along Putah Creek, probably near Davis, in Yolo County, CA (UC Davis Accession 428), by Jack Underhill, and subsequently, they were transferred to UC Davis. No known individual was identified. No associated funerary objects are present.

The site lies in the heart of Patwin aboriginal occupation. Based on historic and anthropological evidence, the human remains are affiliated with Patwin cultural groups.

In 1923, human remains representing one individual were found along Putah Creek, probably in Solano or Yolo County, CA (UC Davis Accession 434). No known individual was identified. No associated funerary objects are present.

The site lies in the heart of Patwin aboriginal occupation. Based on historic and anthropological evidence, the human remains are affiliated with Patwin cultural groups.

Determinations Made by the University of California, Davis

Officials of the University of California, Davis have determined that:

• Pursuant to 25 U.S.C. 3001(9), the human remains described in this notice represent the physical remains of five individuals of Native American ancestry.

• Pursuant to 25 U.S.C. 3001(3)(A), the 27 objects described in this notice are reasonably believed to have been placed with or near individual human remains at the time of death or later as part of the death rite or ceremony.

• Pursuant to 25 U.S.C. 3001(2), there is a relationship of shared group identity that can be reasonably traced between the Native American human remains and associated funerary objects and The Affiliated Tribes.

Additional Requestors and Disposition

Lineal descendants or representatives of any Indian Tribe or Native Hawaiian organization not identified in this notice that wish to request transfer of control of these human remains and associated funerary objects should submit a written request with information in support of the request to Megon Noble, NAGPRA Project Manager, University of California, Davis, 412 Mrak Hall, One Shields Avenue, Davis, CA 95616, telephone (530) 752-8501 email mnoble@ucdavis.edu, by March 25, 2022. After that date, if no additional requestors have come forward, transfer of control of the human remains and associated funerary objects to The Affiliated Tribes may proceed.

The University of California, Davis is responsible for notifying The Consulted and Invited Tribes that this notice has been published.

Dated: February 9, 2022.
Melanie O'Brien,
Manager, National NAGPRA Program.

[FR Doc. 2022-03742 Filed 2-22-22; 8:45 am]

BILLING CODE 4312-52-P